DEPARTMENT OF STATE

[Public Notice: 7443]

Bureau of Educational and Cultural Affairs (ECA) Request for Grant Proposals: Young Turkey/Young America: A New Relationship for a New Age

Announcement Type: New Grant.

Funding Opportunity Number: ECA/PE/C/EUR-SCA-11-34.

Catalog of Federal Domestic Assistance Number: 19.415.

Key Dates:

Application Deadline: June 2, 2011.

Executive Summary:

The Office of Citizen Exchanges of the Bureau of Educational and Cultural Affairs invites proposal submissions for the FY 2011 Young Turkey/Young America Program: A New Relationship for a New Age. Public and private non-profit organizations meeting the provisions described in Internal Revenue Code section 26 USC 501(c)(3) may submit proposals to conduct this professional fellowship program. The Young Turkey/Young America Program was first announced by Secretary of State Hillary Rodham Clinton in Ankara on March 7, 2009, as part of an ongoing commitment to strengthen U.S. Turkish relations. Turkish Young Turkey/Young America provides opportunities for young leaders, ages 24-35, in Turkey and the United States to advance critical dialogue, identify shared concerns, and develop grassroots initiatives that positively impact people's lives resulting in stronger ties between the two nations. Since the start of the initiative in 2009, more than 79 young Turkish and American leaders have engaged in substantive dialogue and collaborative projects addressing economic, environmental, social, and political issues facing both countries.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

I.2. Purpose

The Young Turkey/Young America Program was created to recognize and support “one of the most important bilateral relationships in the world”, create opportunities for sustained partnerships, and identify ways to deepen ties between emerging young leaders in both countries. Young Turkey/Young America seeks to enhance the ability of rising leaders to more effectively engage in public dialogue, and establish projects of mutual concern around economic, environmental, political, and social challenges facing Turkey and the United States in the 21st Century. Through a two-way professional exchange model, complemented by a robust leadership development component, experiential learning opportunities, and collaborative exercises, Young Turkey/Young America provides opportunities for eligible individuals to work together to advance foreign policy dialogue, enhance their leadership skills, develop or strengthen existing partnerships, and advance concrete strategies to better address complex issues facing both countries.

ECA anticipates funding a total of two (2) to three (3) projects, for approximately $325,000 each, under the themes outlined below. Projects should occur over the course of one to two years and target young professionals currently working to improve and enhance the economic, environmental, political, and/or social well-being of their communities with an expressed interest in advancing US-Turkey bi-lateral relations.

The first project theme “Foreign Policy Dialogue Among Emerging Leaders” will link young Turkish and American leaders in substantive foreign policy dialogue on issues of importance to both countries.

The second project theme “Social and Economic Challenges for Future Leaders” will work to expand the capacity of nascent grassroots or not-for-profit organizations working in or with disadvantaged communities to address existing socio-economic issues and challenges.

Additional information on projects and participants is located under I.6 Young Turkey/Young America Fellowship Themes.

As a tool to developing grassroots initiatives that will positively impact people's lives and deepen ties between the future leaders of both countries, Young Turkey/Young America seeks to:

(1) Enhance the participants' ability to address complex economic, environmental, political, and social challenges through a two-way exchange model;

(2) Provide concrete tools for young professionals to advance as future leaders by developing skills for effective public discourse, negotiation, collaboration, coalitation building, and where applicable, community based management;

(3) Cultivate professional ties with U.S. and Turkish counterparts through collaborative follow-on projects;

(4) Create a network of engaged professionals committed to problem solving and engaged dialogue in both countries; and,

(5) Expand and strengthen the relationship between the people of the United States and Turkey to work in partnership to identify solutions to common issues and problems facing their countries and the global community.

In order to enhance the possibility that these projects will strengthen U.S. Turkish relations and colloborative initiatives continue after the conclusion of the exchange program, proposals should support a variety of follow-on projects. Special emphasis should be placed on ways that existing Web or social technologies can enhance follow-on efforts.

I.3. Participants

For the purposes of this program, “participants” are defined as citizens of the eligible countries selected through a merit-based, competition to participate in the Young Turkey/Young America Program. Participants must be early to mid-career professionals with demonstrated leadership abilities, working in grassroots or not-for-profit organizations, foreign policy think-tanks, or other institutions related to the two proposed themes with a stated interested in addressing economic, environmental, political, and/or social challenges through engaged partnership with Turkey and the United States. Every effort must be made to recruit program participants that reflect the diversity of the American and Turkish landscapes. Strong consideration should be given to participants who express a willingness to collaborate on a specific project of mutual interest.

Applicants should strive to maximize the number of participants and the length of the U.S. and Turkey-based program at the given funding levels. Therefore, applicants who engage public and private partners for programming support, and employ other creative techniques to increase or stretch funding dollars will be deemed more competitive than those that do not, under the Cost Effectiveness and Cost-Sharing review criterion.

Additional information about program participants is located under I.7 Young Turkey/Young America Fellowship Themes.

I.4. Partner Organizations

Applicants must identify the U.S.-based and any foreign-based organizations and individuals with whom they are proposing to collaborate to implement Young Turkey/Young America, and describe any previous cooperative activities. While having a permanent presence in Turkey is not required, applicants that are able to demonstrate institutional capacity in Turkey (whether through their own resources or through partnerships with other organizations or institutions) will be given strong consideration under the Institutional Planning and Track Record criterion.

Applicants should clearly outline and describe the role and responsibilities of all partner organizations in terms of project logistics, management and oversight. Proposals that include letters of commitment from partner organizations, proposed speakers or other possible U.S-based hosting organizations will be deemed more competitive under the Institutional Planning and Track Record criterion.

I.5. Project Activities

Proposals should include a description of the project theme to be addressed, how it advances U.S.-Turkish relations, and how it will be integrated into the exchange experience. Strong project designs will ground and augment the exchange experience with leadership development and experiential learning activities that relate to the proposed theme and larger program goals.

U.S.-based programs should be two to three weeks in length and focus on the development of joint projects between the Turkish and U.S. participants. Proposed schedules should also include a one- or two-day debriefing and evaluation session in Washington, DC at the end of the program. The Turkey component should be one to two weeks in duration and build upon key learning objectives and discussion points explored during the U.S.-based program. Schedules should include ample time to allow for continual implementation of joint community-based projects started during the U.S.-based program.

Proposals should clearly outline strategies to encourage regular communication between participants through electronic and digital communications both during and after the exchange program.

I.6. Young Turkey/Young America Fellowship Themes

Proposals need to embrace a program design that fully incorporates one of the two proposed themes under Young Turkey/Young America.

1. Foreign Policy Dialogue among Emerging Leaders: This project is designed to support and promote transatlantic dialogue on foreign policy issues. Projects should allow emerging leaders to examine foreign policy issues in a context that encourages substantive dialogue on issues of common concern, including those that contribute to peace and stability in the Middle East, enhance energy security, promote conflict resolution, advance dialogue on border and immigration issues, and continue cooperation on bilateral economic relations. This program will focus on the elements of strategic partnerships, negotiation around shared interests, and engaged dialogue as an alternative to conflict.

Eligible participants include emerging leaders (approximately 15-20 from the U.S. and Turkey) currently involved in international affairs, youth wings of political parties, not-for-profit organizations with a civic society or youth focus, universities, business organizations, government agencies, media, and think tanks.

2: Social and Economic Challenges for Future Leaders: This project will work to expand the effectiveness and capacity of grassroots and not-for-profit organizations working with marginalized populations and economically disadvantaged communities to engage with policy makers and government officials, conduct community outreach and media campaigns, develop organizational capacity, including efforts at fundraising and constituent building, provide educational and other community services, and create strategic partnerships and alliances.

Eligible participants include emerging grassroots leaders (approximately 15-20 from the U.S. and Turkey) currently working within local, regional, or national grassroots and/or community non-profit organizations, government offices, media or think tanks working to improve the social, economic, and political standing of marginalized or disadvantaged communities.

I.7. ECA and Embassy Involvement

Proposals should include plans to work with ECA's Office of Public Affairs and Strategic Communications in developing a coordinated media and public outreach strategy to strengthen the identity, increase visibility, and raise public awareness of the Young Turkey/Young America Program. All grantees need to incorporate the respective program's brand (when provided by ECA) and give credit to ECA throughout all of its educational and outreach materials including its website with final approval by ECA.

Proposals should also include an articulated strategy as to how the grantee plans to work closely with the Public Affairs Section of the U.S. Embassy in Turkey during project recruitment and selection, implementation, and follow-on programming. Applicants should include concrete plans for PAS involvement in program outreach and activities and state their willingness to invite representatives of the Embassy to participate in interviews, pre-departure orientations, exchange components, and follow-on projects. All plans must be approved by ECA before their execution within Turkey. Applicants are strongly encouraged to consult with Public Affairs Officer Stefanie Altman-Winans, winanss@state.gov, at the U.S. Embassy in Ankara as they develop proposals responding to this RFGP.

I.8. Proposal Content

I.8a. Executive Summary. The Executive Summary should be one page in length and include the project title, proposed theme, nature of activity, requested funding level, project goals, names of partner organizations responsible for project implementation, number of American and Turkish participants, and anticipated outcomes. Executive summaries should also include a description of proposed participants and information about the wider audience benefiting from the program.

I.8b. Proposal Narrative. The narrative should include detailed information and outlined strategies for achieving program objectives and should address the following:

a. Vision (statement of need, objectives, goals, benefits)

b. Participating Organizations

c. Program Activities (advertisement, recruitment, pre-departure and U.S. orientations, cultural program, participant monitoring, etc.)

d. Collaborative and Follow-on Program Components

e. Program Evaluation

f. Project Management

g. Alumni Programming

h. Work Plan/Time Frame

Proposal narratives should be limited to 20 double spaced pages. Proposals should also include an acknowledgement to follow guidance in the PSI entitled “Acknowledgement of ECA's Financial Support and Use of the Department Seal”. Proposals must affirm grantee organizations' plan to use ECA-developed program logos and the State Department seal on all relevant program materials, applications, websites, and other related materials.

Proposals must acknowledge compliance with “ECA's General Policy Guidance on Alumni Outreach/Follow-on and Engagement” provided in the PSI and describe efforts to support the Young Turkey/Young America alumni community. Special attention should be paid to creative approaches for integrating ECA's alumni and social media sites into the exchange program (http://www.state.alumni.gov; http://www.exchangesconnect.gov).

I.8c. Budget. Please refer to section IV.3e. Budget Submission in this document and the PSI for guidance on preparing your budget. The budget narrative and corresponding budget notes should be included under Tab E.

I.8d Attachments

I.8d.1. Resumes. Resumes of principal staff of all partner organizations involved in the implementation of the project should be included in Tab E. As outlined in the PSI, no resume should exceed two pages in length.

I.8d.2. Letters of commitment and/or letters of support. Letters of commitment or support from partner organizations and institutions that demonstrate a capacity to arrange and conduct U.S. and overseas activities should also be included in Tab E.

I.8e.3. Project Materials. Materials that support project design and implementation should be included in Tab E. These include but are not limited to:

1. Draft agendas of professional workshops, conferences and seminars including online modules, pre-departure orientation, U.S. based orientation and final conference activities

2. Draft application and recruitment materials

3. Draft selection and interview materials

4. Draft participant proposals and reporting guidelines for collaborative projects

5. Outline of alumni programming including sample small grant applications

6. Sample evaluation and survey instruments

7. Timeline for program implementation

8. Project promotional materials

9. Budget Narrative and budget notes

10. Samples or outlines of on-line sessions including innovative use of ECA's alumni websites.

Attachments that do not directly address the proposed project (i.e., organization brochures, pamphlets, unsolicited reports) are strongly discouraged.

II. Award Information

Type of Award: Grant Agreement.

Fiscal Year Funds: FY 2011.

Approximate Total Funding: $500,000-$1,000,000.

Approximate Number of Awards: 2-3.

Approximate Average Award: $325,000.

Anticipated Award Date: September 1, 2011.

Anticipated Project Completion Date: August 30, 2013.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110 (Revised), Subpart C.23—Cost Sharing and Matching. In the event you do not provide the minimum amount of cost sharing as stipulated in the approved budget, ECA's contribution will be reduced in like proportion.

III.3. Other Eligibility Requirements:

(a.) Bureau grant guidelines require that organizations with less than four years experience in conducting international exchanges be limited to $60,000 in Bureau funding. ECA anticipates making two awards above this $60,000 threshold to support program and administrative costs required to implement this exchange program. Therefore, organizations with less than four years experience in conducting international exchanges are ineligible to apply under this competition. The Bureau encourages applicants to provide maximum levels of cost sharing and funding in support of its programs.

(b) Technical Eligibility: All proposals must comply with the following or your proposal will be declared technically ineligible and given no further consideration in the review process:

—Eligible applicants may not submit more than one proposal in this competition.

—If more than one proposal is received from the same applicant, all submissions will be declared technically ineligible and will receive no further consideration in the review process. Please note: Applicant organizations are defined by their legal name, and EIN number as stated on their completed SF-424 and additional supporting documentation outlined in the Proposal Submission Instructions (PSI) document.

—Eligible applicants may only propose working with the themes and countries listed in this RFGP.

—Please refer to the Proposal Submission Instructions (PSI) document for additional requirements.

IV. Application and Submission Information

Note: Please read the complete announcement before sending inquiries or submitting proposals. Once the RFGP deadline has passed, Bureau staff may not discuss this competition with applicants until the proposal review process has been completed.

IV.1 Contact Information to Request an Application Package: Please contact David Gustafson in the Office of Citizen Exchanges, ECA/PE/C, U.S. Department of State, SA-5, 3rd Floor, 2200 C St., NW., Washington, DC 20522-0503, ph: (202) 632-6083, GustafsonDP@state.gov to request a Solicitation Package. Please refer to the Funding Opportunity Number: ECA/PE/C/EUR-SCA-11-34 located at the top of this announcement when making your request. Alternatively, an electronic application package may be obtained from grants.gov. Please see section IV.3f for further information.

The Solicitation Package contains the Proposal Submission Instruction (PSI) document which consists of required application forms, and standard guidelines for proposal preparation.

Please specify Linnéa E. Alison and refer to the Funding Opportunity Number ECA/PE/C/EUR-SCA-11-34 located at the top of this announcement on all other inquiries and correspondence.

IV.2. To Download a Solicitation Package Via Internet: The entire Solicitation Package may be downloaded from the Bureau's Web site at http://exchanges.state.gov/grants/open2.html, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. All federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa.

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR part 62. Therefore, the Bureau expects that any organization receiving an award under this competition will render all assistance necessary to enable the Bureau to fully comply with 22 CFR part 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from:

Office of Designation, Private Sector Programs Division, U.S. Department of State, ECA/EC/D/PS, SA-5, 5th Floor, 2200 C Street, NW., Washington, DC 20037.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

ECA encourages you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing your budget:

IV.3e.1. Applicants must submit SF-424A—“Budget Information—Non-Construction Programs” along with a comprehensive budget for the entire program. Budget requests may not exceed $325,000. There must be a summary budget as well as breakdowns reflecting both administrative and program budgets. Applicants may provide separate sub-budgets for each program component, phase, location, or activity to provide clarification.

IV.3e.2. Allowable costs for the program include the following:

1. International and Domestic Air Fares; Visas; Transit Costs; Ground Transportation Costs and Airline baggage fees. Please note that all air travel must be in compliance with the Fly America Act. There is no charge for J-1 visas for participants in Bureau sponsored programs.

2. Per Diem. For U.S.-based programming, organizations should refer to the published Federal per diem rates for individual U.S. cities. Domestic per diem rates may be accessed at: http://www.gsa.gov/portal/category/21287.

ECA requests applicants to budget realistic costs that reflect the local economy and do not exceed Federal per diem rates. Foreign per diem rates can be accessed at: http://aoprals.state.gov/content.asp?content_id=184&menu_id=78.

3. Book and Cultural Allowance. Participants are entitled to a one-time cultural allowance of $150 per person, plus a book allowance of $50. U.S. program staff members are not eligible to receive these benefits.

4. Consultants. Consultants may be used to provide specialized expertise or to make presentations. Daily honoraria may not exceed $250 per day. Subcontracting organizations may also be used, in which case the written agreement between the prospective grantee and subcontractor should be included in the proposal. Subcontracts should be itemized in the budget.

5. Room Rental. Room rental may not exceed $250 per day per conference room.

6. Materials Development. Your proposal may contain costs to purchase, develop and translate materials for participants.

7. Supplies. Proposals may contain costs to purchase equipment for programming such as computers, fax machines. Costs for furniture are not allowed. Supply costs for the purchase of equipment must be kept to a minimum.

8. Working Meal. No more than two working meals may be provided for each program component. At least one working meal should be budgeted for the D.C. final debrief. The cost per person should not exceed $45 for the working meal. No charges may be made against U.S. Government funds for alcoholic beverages. The number of invited guests should not exceed the number of funded program participants by more than a factor of two (i.e., no more than twenty invited guests for a working meal involving ten funded program participants).

9. Return Travel Allowance. A return travel allowance of $70 for each participant may be included in the budget. The allowance may be used for incidental expenses incurred during international travel.

10. Health Insurance. Foreign participants will be covered under the terms of a U.S. Department of State-sponsored health insurance policy. The premium is paid by the U.S. Department of State directly to the insurance company. Applicants are permitted to include costs for travel insurance for participants in the budget.

11. Wire Transfer Fees. When necessary, applicants may include costs to transfer funds to partner organizations overseas. Grantees are urged to research applicable taxes that may be imposed on these transfers by host governments.

12. In-country Travel Costs for Visa Processing Purposes. Given the requirements associated with obtaining J-1 visas for ECA-supported participants, applicants should include costs for any travel associated with visa interviews or DS-2019 pick-up.

13. Administrative Costs. Costs necessary for the effective administration of the program may include salaries for grantee organization employees, benefits, and other direct and indirect costs per detailed instructions in the Application Package. While there is no rigid ratio of administrative to program costs, proposals in which the administrative costs do not exceed 25% of the total requested ECA grant funds will be more competitive under the cost effectiveness and cost sharing criterion, per item V.1 in the RFGP. Proposals should show strong administrative cost sharing contributions from the applicant, the in-country partner and other sources. For organizations located outside of the DC metropolitian area, please also include in the administrative portion of your budget plans to travel to Washington, DC, to meet with your program officer within the first 45 days after the grant has been awarded.

Please refer to the Solicitation Package for complete budget guidelines and formatting instructions.

IV.3f. Application Deadline and Methods of Submission

Application Deadline Date: June 2, 2011

Reference Number: ECA/PE/C/EUR-SCA-11-34

Methods of Submission:

Applications may be submitted in one of two ways: (1) In hard-copy, via a nationally recognized overnight delivery service (i.e., Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight (8) copies of the application should be sent to: Program Management Division ECA-IIP/EX/PM, Ref.: ECA/PE/C/EUR-SCA-11-34, SA-5, Floor 4, Department of State, 2200 C Street, NW., Washington, DC 20037.

Applicants submitting hard-copy applications must also submit the “Executive Summary” and “Proposal Narrative” sections of the proposal in text (.txt) or Microsoft Word format on CD-ROM. As appropriate, the Bureau will provide these files electronically to Public Affairs Section(s) at the U.S. Embassy(ies) for its(their) review.

IV.3f.2. Submitting Electronic Applications

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov website includes extensive information on all phases/aspects of the Grants.gov process, including an extensive section on frequently asked questions, located under the “For Applicants” section of the website. ECA strongly recommends that all potential applicants review thoroughly the Grants.gov website, well in advance of submitting a proposal through the Grants.gov system. ECA bears no responsibility for data errors resulting from transmission or conversion processes.

Direct all questions regarding Grants.gov registration and submission to:

Grants.gov Customer Support

Contact Center Phone: 800-518-4726

Business Hours: Monday-Friday, 7 a.m.-9 p.m. Eastern Time

Email: support@grants.gov

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov website, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grant agreements resides with the Bureau's Grants Officer.

Review Criteria

Technically eligible applications will be competitively reviewed according to the criteria stated below. These criteria are not rank ordered and all carry equal weight in the proposal evaluation:

1. Quality of the Program Idea: Proposals should exhibit originality, substance, precision, and relevance to the Bureau's mission.

2. Program Planning and Ability to Achieve Objectives: Program objectives should be stated clearly and should reflect the applicant's expertise in the subject area and region. Objectives should respond to the topics in this announcement and should relate to the current conditions in the target country/countries. Detailed agendas and relevant work plans should complement the narrative in explaining how objectives will be achieved. Timelines should be comprehensive in nature and include deadlines for completion of major tasks. The substance of workshops, seminars and/or consulting should be described in detail with sample schedules included for each major workshop, seminar, or conference proposed. Responsibilities of proposed in-country partners should be clearly described. A discussion of how the applicant intends to address language issues should be included, if needed.

3. Institutional Capacity and Track Record: Proposals should include (1) the institution's mission and date of establishment; (2) detailed information about proposed in-country partner(s) and the history of the partnership; (3) an outline of prior awards—U.S. government and/or private support received within the scope of RFGP's theme of either U.S. Turkish foreign policy or social and economic development; and (4) descriptions and resumes of experienced staff members who will implement the program. The proposal should reflect the institution's expertise in the subject area and knowledge of the conditions in the target country/countries. Proposals should demonstrate an institutional record of successful exchange programs, including responsible fiscal management and full compliance with all reporting requirements for past Bureau grants as determined by Bureau Grants Staff. The Bureau will consider the past performance of prior recipients and the demonstrated potential of new applicants. Proposed personnel and institutional resources should be adequate and appropriate to achieve the program's goals. The Bureau strongly encourages applicants to submit letters of support from proposed in-country partners, part participants, or proposed hosting organizations.

4. Cost Effectiveness and Cost Sharing: Overhead and administrative costs in the proposal budget, including salaries, honoraria and subcontracts for services, should be kept to a minimum. Proposals in which the administrative costs do not exceed 25% of the total requested ECA grant funds will be more competitive under this criterion. Applicants are strongly encouraged to cost share a portion of overhead and administrative expenses. Cost-sharing and in-kind contributions, including contributions from the applicant, proposed in-country partner(s), and other sources should be included in the budget request. Proposal budgets that do not reflect cost sharing will be deemed not competitive under this criterion.

5. Support of Diversity: Proposals should demonstrate substantive support of the Bureau's policy on diversity. Achievable and relevant features should be cited in both program administration (selection of participants, program venue, program evaluation, etc.) and program content (orientation, wrap-up sessions, program meetings, resource materials, follow-up activities, etc.). Applicants should refer to the Bureau's Diversity, Freedom and Democracy Guidelines in the Proposal Submission Instructions (PSI).

6. Multiplier Effect and Follow-on Activities: Proposed programs should strengthen long-term mutual understanding, including maximum sharing of information and establishment of long-term institutional and individual linkages.

7. Project Evaluation: Proposals should include a detailed plan to evaluate the program, both as activities unfold and at the end of the program. Program objectives should target clearly defined results in quantitative terms. Competitive evaluation plans will describe how applicant organizations would measure these results, including the evaluative methodology and tools to be utilized and proposals. Proposals should include draft data collection instruments (surveys, questionnaires, etc.) in Tab E and if relevant, samples data sets from similarly conducted programs.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following websites for additional information: http://www.whitehouse.gov/omb/grants, http://fa.statebuy.state.gov.

VI.3. Reporting Requirements: You must provide ECA with an electronic copy of the following reports at reportseca@state.gov:

Mandatory

(1) A final program and financial report no more than 90 days after the expiration of the award;

(2) A concise, one-page final program report summarizing program outcomes no more than 90 days after the expiration of the award. This one-page report will be transmitted to OMB, and be made available to the public via OMB's USAspending.gov website—as part of ECA's Federal Funding Accountability and Transparency Act (FFATA) reporting requirements.

(3) A SF-PPR, “Performance Progress Report” Cover Sheet with all program reports.

(4) Quarterly program and financial reports highlighting all major activities undertaken during the grant period including program analysis and lessons learned.

Award recipients will be required to provide reports analyzing their evaluation findings to the Bureau in their regular program reports. (Please refer to IV. Application and Submission Instructions (IV.3.d.3) above for Program Monitoring and Evaluation information.

All reports must be sent to the ECA Grants Officer and ECA Program Officer listed in the final assistance award document. All data collected, including survey responses and contact information, must be maintained for a minimum of three years and provided to the Bureau upon request.

Program Data Requirements

Award recipients will be required to maintain specific data on program participants and activities in an electronically accessible database format that can be shared with the Bureau as required. As a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least one month prior to the official opening of the activity.

VII. Agency Contacts

For questions about this announcement, please contact: Linnéa E. Allison, U.S. Department of State, Office of Citizen Exchanges, 2200 C Street (SA-5, 3rd Floor), NW., Washington, DC 20522-0503,(202) 632-6060 (tel.) (202) 632-6492 (fax), or allisonle@state.gov.

All correspondence with the Bureau concerning this RFGP should reference the following title and number Young Turkey/Young America, ECA/PE/C/EUR-SCA-11-34

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 29, 2011.
J. Adam Ereli,
Principal Deputy Assistant Secretary, Bureau of Educational and Cultural Affairs, U.S. Department of State.

[FR Doc. 2011-11000 Filed 5-4-11; 8:45 am]

BILLING CODE 4710-05-P